DEPARTMENT OF THE INTERIOR

National Park Service

30-Day Notice of Submission to the Office of Management and Budget; Opportunity for Public Comment

AGENCY: Department of the Interior, National Park Service.

ACTION: Notice and request for comments.

SUMMARY: Under provisions of the Paperwork Reduction Act of 1995 and 5 CFR Part 1320, Reporting and Recordkeeping Requirements, the National Park Service (NPS) invites public comments on a proposed new collection of information (OMB #1024-XXXX).

DATES: Public comments on this Information Collection Request (ICR) will be accepted on or before December 5, 2007.

ADDRESSES: You may submit comments directly to the Desk Officer for the Department of the Interior (OMB #1024-­XXXX), Office of Information and Regulatory Affairs, OMB, by fax at 202/395-6566, or by electronic mail at oria_docket@omb.eop.gov. Please also send a copy of your comments to Dr. Michael Patterson, Department of Society and Conservation, University of Montana, Missoula, MT 59801; Phone: 406/243-6614; e-mail: michael.patterson@unmontana.edu.

FOR FURTHER INFORMATION CONTACT: Dr. James Gramann, NPS Social Science Program, 1201 Eye St., Washington, DC 20005; or via phone 202/513-7189; or via e-mail James_Gramann@partner.nps.gov. You are entitled to a copy of the entire ICR package free-of-charge.

Comments Received on the 60-Day Federal Register Notice: The NPS published a 60-Day Notice to solicit public comments on this ICR in the Federal Register on April 24, 2007 (Vol. 72, No. 78, Page 20363-20364). The comment period closed on June 25, 2007. After multiple notifications to stakeholders requesting comments, the NPS received one comment as a result of the publication of this 60-Day Federal Register Notice.

We received on public comment on the proposed visitor study in Yellowstone National Park (YNP). The comment, from a representative of the Wyoming State Snowmobile Association, raised concerns related to four aspects of the research design: (1) The possible disruption of visitor experiences through asking them to respond to an on-site survey, (2) the adequacy of the sample size, (3) the appropriateness/practical utility of gathering information on visitor perceptions about their experiences and park management, and (4) the appropriateness of gathering information on guides' perspectives about the snowcoach/snowmobile guide-only policy.

The comments were addressed in a reply letter. The following is a synopsis of the response to each of the proposed concerns: (1) The methods used in this study are well-established in the research community and every effort has been made to ensure that visitors are not disrupted in any significant way. (2) The sample sizes are large enough to address the research needs and will allow for a small standard error of ±5%. (3) The goal of the proposed study is to assess visitor perceptions about the appropriateness and acceptability of YNP's stewardship of bison, management of human-wildlife interactions witnessed during their experiences, and YNP soundscapes. Thus this information will have important practical utility for park managers: it can help managers understand visitor experiences, visitors' values, how experiences and values are related to support/opposition for management policies, what visitors think about NPS stewardship, and how to design interpretation/education efforts. (4) The guides represent a constituency with whom YNP interacts, who are impacted by management policies, and who have a wealth of experience and information about winter use given the time they spend in YNP. Information about guides' perceptions are therefore another important source of input for understanding winter use.

SUPPLEMENTARY INFORMATION: Title: Winter Visitor Experiences in Yellowstone National Park.

Bureau Form Number(s): None.

OMB Number: To be requested.

Expiration Date: To be requested.

Type of Request: New Collection.

Description of Need: This study will provide the NPS and park managers with critical information on winter visitor experiences of Yellowstone National Park. The purpose of this research is to assist Park managers in identifying efficient, salient and effective dimensions of the visitor experience for applications in monitoring efforts. Those monitoring efforts can then be tailored to the evaluation of NPS policy and management actions. Recent changes to Yellowstone National Park's winter use policy have driven a need for social scientific research on winter visitor experiences in the park. This research has three components: (1) The role of the natural soundscape in visitor experiences, (2) visitor perceptions of human-wildlife interactions, and (3) snowcoach and snowmobile guides' perceptions of the effectiveness of the guide-only policy.

1. The Role of the Natural Soundscape in Visitor Experiences

Yellowstone National Park (YNP) has requested research into visitor experiences of natural sounds. The recent changes in winter use motorized access in YNP require snowmobiles in the park to use clean and quiet technology. These changes have led to the need to better understand the role of natural sounds in the winter visitor experience. The purpose of this study is to provide park managers with specific information on visitor perceptions of the experience of the natural soundscape and on visitor willingness to support management actions that affect the natural soundscape in Yellowstone National Park. The purpose of the interview approach for soundscape research is to obtain an in depth understanding of visitor experiences of the natural soundscape and to better understand the context within which soundscape policies affect the visitor experience.

Previous research in Yellowstone National Park has documented the existence of differing values held among visitors for the park itself. Strong relationships between perceived park values and visitor willingness to support park management activities have been previously documented. The research proposed for the next winter use season will build on this knowledge, expanding it to include the natural soundscape resource, providing the park with information on the status of visitor perceptions of park values, visitor perceptions of the importance of natural sounds to their experience, and visitors' willingness to support management actions affecting the natural soundscape. In addition to the in-depth interviews, an on-site questionnaire will be utilized for this portion of the soundscape research.

2. Visitor Perceptions of Human-Wildlife Interactions

This study seeks to provide park managers with specific information on visitor perceptions of wildlife interactions that occur in Yellowstone National Park. The recent changes in winter use policy require the snowmobile experience to be guided, which leads to different types of visitor wildlife interactions. YNP has requested research exploring how winter visitors appraise the human-bison interactions they observe during their visit. The primary goals are to explore snowcoach and snowmobile passengers' appraisals of the human-bison interactions they witness during their visits, to analyze situational and visitor characteristics that might influence those appraisals, and to explore visitors' judgments about when consequences of winter use for bison are serious enough to warrant management intervention regulating these interactions.

3. The Effectiveness of the Guide-Only Policy in Yellowstone National Park: The Perspective of Snowcoach and Snowmobile Guides

Recent winter use plans at Yellowstone National Park have required that each snowmobile comply with best available technology, that all groups be guided, and that the total number of daily winter visitors be capped. These restrictions were implemented to reduce impacts to wildlife, improve compliance with winter use rules, reduce visitor conflict, and address visitor carrying capacity. This study will look at the effectiveness of these managerial interventions through the eyes of the professional guides. Many guides have been working in the park on a daily basis for year; thus, they offer a unique perspective on how the conditions in the park have changed and what seems to be working best within the new winter use system. Interviews, to be conducted during the winter use season, will rely on an open ended, in-depth process.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address or other personal identifying information in your comment, you should be aware that your entire comment—including your personal identifying information—may be made publicly available at any time. While you can ask us in your comment to withhold your personal identifying information from public review, we cannot guarantee that we will be able to do so.

Automated data collection: This information will be collected via in-person interviews and surveys. No automated data collection will take place.

Frequency of collection: Once.

Description of respondents: Components 1 and 2: Visitors stopping at the Old Faithful Snow Lodge and Old Faithful Geyser on 20 days during the 2007-2008 winter use season. Component 3: Snowmobile and snowcoach guides in Yellowstone National Park.

Estimated average number of respondents: Component 1: 445 (400 respondents for on-site survey and 45 respondents for interviews). Component 2: 400. Component 3: 30. Non-respondents: 92 (component 1: 45, component 2: 40, and component 3: 7).

Estimated average number of responses: Component 1: 445 (400 responses for on-site survey and 45 responses for interviews). Component 2: 400. Component 3: 30. Non-responses: 92 (component 1: 45, component 2: 40, and component 3: 7).

Estimated average time burden per respondent: Component 1: 15 minutes for on-site survey and 30 minutes for interview. Component 2: 20 minutes. Component 3: 20 minutes. Non-respondents: 1 minute.

Frequency of Response: 1 time per respondent.

Estimated total annual reporting burden: 268 hours.

Dated: October 30, 2007.
Leonard E. Stowe,
NPS, Information Collection Clearance Officer.

[FR Doc. 07-5465 Filed 11-2-07; 8:45 am]

BILLING CODE 4312-52-M